NUCLEAR REGULATORY COMMISSION

[NRC-2020-0001]

Sunshine Act Meetings

FEDERAL REGISTER CITATION OF PREVIOUS ANNOUNCEMENT: 85 FR 34660, June 5, 2020.

PREVIOUSLY ANNOUNCED TIME AND DATE OF THE MEETING: 2:30 p.m., Thursday, June 4, 2020.

CHANGES IN THE MEETING: Cancelled: Affirmation Session—Entergy Nuclear Operations, Inc., Entergy Nuclear Generation Co., Holtec International, and Holtec Decommissioning International, LLC (Pilgrim Nuclear Power Station)—Petitions for Intervention.

CONTACT PERSON FOR MORE INFORMATION: Denise McGovern at 301-415-0681 or via email at Denise.McGovern@nrc.gov.

Dated: June 5, 2020.
For the Nuclear Regulatory Commission.
Denise L. McGovern
Policy Coordinator, Office of the Secretary.

[FR Doc. 2020-12591 Filed 6-5-20; 4:15 pm]

BILLING CODE 7590-01-P